COMMITTEE FOR THE IMPLEMENTATION OF TEXTILE AGREEMENTS

Increase of a Designated Consultation Level for Certain Wool Textile Products Produced or Manufactured in Mexico

June 18, 2002.

AGENCY: Committee for the Implementation of Textile Agreements (CITA).

ACTION: Issuing a directive to the Commissioner of Customs increasing a designated consultation level.

EFFECTIVE DATE: June 21, 2002.

FOR FURTHER INFORMATION CONTACT: Naomi Freeman, International Trade Specialist, Office of Textiles and Apparel, U.S. Department of Commerce, (202) 482-4212. For information on the quota status of this limit, refer to the Quota Status Reports posted on the bulletin boards of each Customs port, call (202) 927-5850, or refer to the U.S. Customs Web site at http://www.customs.gov. For information on embargoes and quota re-openings, refer to the Office of Textiles and Apparel Web site at http://otexa.ita.doc.gov.

SUPPLEMENTARY INFORMATION:

Authority: Section 204 of the Agricultural Act of 1956, as amended (7 U.S.C. 1854); Executive Order 11651 of March 3, 1972, as amended.

The Government of the United States has agreed to increase the current Designated Consultation Level (DCL) for Category 433 to 12,000 dozen. To the extent used, the 2003 DCL for Category 433 will be reduced by 1,000 dozen, the equivalent amount of the increase.

The level does not apply to NAFTA (North American Free Trade Agreement) originating goods, as defined in Annex 300-B, Chapter 4 and Annex 401 of the agreement. In addition, this consultation level does not apply to textile and apparel goods, assembled in Mexico, in which all fabric components were wholly formed and cut in the United States, entered under the United States Harmonized Tariff Schedule heading 9802.00.90.

A description of the textile and apparel categories in terms of HTS numbers is available in the CORRELATION: Textile and Apparel Categories with the Harmonized Tariff Schedule of the United States (see Federal Register notice 66 FR 65178, published on December 18, 2001). Also see 66 FR 59580, published on November 29, 2001.

James C. Leonard III,
Chairman, Committee for the Implementation of Textile Agreements.

Committee for the Implementation of Textile Agreements

June 18, 2002.

Commissioner of Customs,

Department of the Treasury, Washington, DC 20229.

Dear Commissioner: This directive amends, but does not cancel, the directive issued to you on November 23, 2001 by the Chairman, Committee for the Implementation of Textile Agreements. That directive concerns imports of certain wool and man-made fiber textile products, produced or manufactured in Mexico and exported during the period which began on January 1, 2002 and extends through December 31, 2002. The levels established in that directive do not apply to NAFTA (North American Free Trade Agreement) originating goods, as defined in Annex 300-B, Chapter 4 and Annex 401 of NAFTA or to textile and apparel goods, assembled in Mexico, in which all fabric components were wholly formed and cut in the United States, entered under the United States Harmonized Tariff Schedule heading 9802.00.90.

Effective on June 21, 2002, you are directed to increase the current designated consultation level for Category 433 to 12,000 dozen ¹, pursuant to exchange of letters dated May 30, 2002 and June 11, 2002, and provisions of the NAFTA (North American Free Trade Agreement).

¹ The limit has not been adjusted to account for any imports exported after December 31, 2001.

The Committee for the Implementation of Textile Agreements has determined that this action falls within the foreign affairs exception of the rulemaking provisions of 5 U.S.C. 553(a)(1).

Sincerely,

James C. Leonard III,

Chairman, Committee for the Implementation of Textile Agreements.

[FR Doc. 02-15839 Filed 6-20-02; 8:45 am]

BILLING CODE 3510-DR-S